DEPARTMENT OF HOUSING AND URBAN DEVELOPMENT

[Docket No. FR-4837-D-40]

Redelegation of Authority to the Director of the Office of Labor Relations

AGENCY: Office of Departmental Operations and Coordination, HUD.

ACTION: Notice of redelegation of authority.

SUMMARY: Published concurrently in the Federal Register is a delegation of authority from the Secretary of HUD to the Director of Office of Departmental Operations and Coordination (ODOC), which delegates the authority to perform certain functions related to the requirements of various labor relation and labor standards statutes and authorities. By this notice, the Director of ODOC retains and redelegates all such authority to the Director of the Office of Labor Relations (OLR).

EFFECTIVE DATE: November 10, 2003.

FOR FURTHER INFORMATION CONTACT: Edward L. Johnson, Director, Office of Labor Relations, Office Of Departmental Operations and Coordination, Department of Housing and Urban Development, 451 Seventh Street, SW., Suite 2102, Washington, DC 20410-9000, telephone (202) 708-0370 extension 5540. (This is not a toll-free number.) Individuals with hearing or speech impairments may access this number through TTY by calling the toll-free Federal Information Relay Service at 1-800-877-8339.

SUPPLEMENTARY INFORMATION: The Secretary is in the process of updating delegations issued to officials within the Department. In this redelegation, the Director of ODOC retains and redelegates to the Director of OLR, the authority to perform certain functions related to the requirements of certain labor standards statutes and authorities.

Accordingly, the Director of ODOC redelegates authority as follows:

Section A. Authority Redelegated

The Director of ODOC retains and redelegates to the Director of OLR all authority with respect to labor standards administration and enforcement vested in, or delegated or assigned to, the Secretary under statutes and authorities relating to labor standards, including but not limited to the Davis-Bacon Act (40 U.S.C. 3141 et seq.), the Copeland Act (40 U.S.C. 3145), the Contract Work Hours and Safety Standards Act (40 U.S.C. 3701 et seq.), Reorganization Plan No. 14 of 1950 (5 U.S.C. App. 1 Reorg. Plan 14), the National Housing Act (12 U.S.C. 1701 et seq.), Section 202 of the National Housing Act of 1959 (12 U.S.C. 1701q); the National Affordable Housing Act (42 U.S.C. 12704 et seq.), the United States Housing Act of 1937 (42 U.S.C. 1437j), the Housing and Community Development Act of 1974 (42 U.S.C. 5301 et seq.), the Native American Housing Assistance and Self-Determination Act (25 U.S.C. 4101 et seq.), the Hawaiian Homelands Homeownership Act of 2000 (25 U.S.C. 4221 et seq.), Executive Order 13202 (66 FR 11225) as amended (66 FR 18717), and certain Department of Labor regulations (29 CFR parts 1, 3, 5, 6, and 7).

The authority redelegated includes the authority to determine or adopt prevailing wage rates, which is vested in the Secretary by certain statutes, including, but not limited to, the United States Housing Act of 1937 (42 U.S.C. 1437j), the Native American Housing Assistance and Self-Determination Act (25 U.S.C. 4101 et seq.), and the Hawaiian Homelands Homeownership Act of 2000 (25 U.S.C. 4221 et seq.).

Section B. Authority to Redelegate

The authority redelegated herein may be redelegated by a written redelegation of authority.

Section C. Authority Revoked

All prior redelegations of the authority redelegated herein are revoked.

Authority: Section 7(d) of the Department of Housing and Urban Development Act, 42 U.S.C. 3535(d).

Dated: November 10, 2003.
Frank Davis,
Director of the Office of Departmental Operations and Coordination.

[FR Doc. 03-29058 Filed 11-20-03; 8:45 am]

BILLING CODE 4210-18-P